DEPARTMENT OF THE INTERIOR

National Park Service

Notice of Draft Chesapeake Bay Special Resource Study/EIS Availability

AGENCY: National Park Service, Interior.

ACTION: Availability of draft Chesapeake Bay Special Resource Study/Environmental Impact Statement.

SUMMARY: Pursuant to section 102(2) of the National Environmental Policy Act of 1969, the National Park Service (NPS) announces the availability of the draft Chesapeake Bay Special Resource Study and Environmental Impact Statement (DEIS).

The Fiscal Year 1999 appropriations bill for the Department of the Interior and related agencies included direction to the National Park Service to conduct a Special Resource Study to: (a) Examine whether having additional Chesapeake Bay resources within the National Park System would make sense and would advance partnership efforts to conserve and celebrate the Chesapeake Bay; (b) define whether there are concepts or ways that areas of the Bay might fit appropriately within the diverse National Park System; and (c) make recommendations to Congress regarding these findings. The draft Chesapeake Bay Special Resource Study/DEIS outlines a no-action alternative and four conceptual alternatives for how the Chesapeake Bay might be represented within the National Park System.

DATES: There will be a 60-day public review period for comments on this document. Comments on the DEIS may be submitted but be received no later than 60 days after publication of this notice in the Federal Register. Public open houses for information about, or to make contract on, the DEIS will be announced in Chesapeake Bay region media, a newsletter and the study Web site when they are scheduled. Information about meeting times and locations will be available by contacting the NPS Chesapeake Bay Program Office at 800 YOUR BAY (968-7229) or visiting the study Web site at: www.chesapeakestudy.org. Comments may also be submitted in writing or electronically via the study Web site (see ADDRESS below).

ADDRESSES: Copies of the DEIS are available upon request by writing to NPS Chesapeake Bay Program Office, 410 Severn Avenue, Suite 109, Annapolis MD 21403, by phone at 800 YOUR BAY (968-7229), or by e-mail to cmueller@chesapeakebay.net. A downloadable on-line version of the document is available at: www.chesapeakestudy.org.

FOR FURTHER INFORMATION CONTACT: Director, NPS Chesapeake Bay Program Office, 410 Severn Avenue, Suite 109, Annapolis MD, 21403, or 800 YOUR BAY (968-7229).

It is National Park Service practice to make comments, including names and addresses of respondents, available for public review. Individual respondents may request that we withhold their address from the record, which we will honor to the extent allowable by law. We will make all submissions from organizations or businesses, and from individuals identifying themselves as representatives or officials of organizations or businesses, available for public inspection in their entirety.

Dated: April 9, 2003.
Dale Ditmanson,
Acting Director, Northeast Region.

[FR Doc. 03-15976 Filed 6-24-03; 8:45 am]

BILLING CODE 4310-70-M